DEPARTMENT OF THE INTERIOR

Bureau of Land Management

[PO #4820000251]

Notice of Lease Sale and Notice of Availability of the Detailed Statement of Sale for the Coastal Plain 2025 Oil and Gas Lease Sale

AGENCY: Bureau of Land Management, Interior.

ACTION: Notice of lease sale.

SUMMARY: The Bureau of Land Management (BLM) is changing the oil and gas lease sale bid opening date, previously published in the Federal Register on December 10, 2024, for 12 tracts in the Coastal Plain of the Arctic National Wildlife Refuge.

DATES: The notice published on December 10, 2024, at 89 FR 99270, provided for opening of bids for the oil and gas lease sale on January 9, 2025. However, in light of the December 30, 2024, Executive Order Providing for the Closing of Executive Departments and Agencies of the Federal Government on January 9, 2025, the BLM will open bids the following day, January 10, 2025, at 10 a.m. Alaska Standard Time (AKST).

Notwithstanding the change in the date for opening of bids, the BLM is not changing the deadline for all sealed bids, which the BLM must receive by 4 p.m. AKST, January 6, 2025.

ADDRESSES: Sealed bids must be received at the BLM-Alaska State Office, ATTN: Wayne Svejnoha (AK932); 222 West 7th Avenue, #13; Anchorage, AK 99513-7504. The Detailed Statement of Sale is available from the BLM Alaska website at https://www.blm.gov/alaska.

FOR FURTHER INFORMATION CONTACT: Wayne Svejnoha, Supervisory Minerals and Energy Specialist, phone 907-271-4407 or email, wsvejnoh@blm.gov. Individuals in the United States who are deaf, deafblind, hard of hearing, or have a speech disability may dial 711 (TTY, TDD, or TeleBraille) to access telecommunications relay services for contacting Mr. Svejnoha. Individuals outside the United States should use the relay services within their country to make international calls to the point-of-contact in the United States.

(Authority: Section 20001 of the Tax Cuts and Jobs Act of 2017 (Pub. L. 115-97); 43 CFR 3131.4-1)

Erika Reed,
Acting State Director, Alaska.

[FR Doc. 2024-31648 Filed 12-31-24; 4:15 pm]

BILLING CODE 4331-10-P